NATIONAL AERONAUTICS AND SPACE ADMINISTRATION

[Notice 00-061]

Notice of Agency Report Forms Under OMB Review

AGENCY: National Aeronautics and Space Administration (NASA).

SUMMARY: The National Aeronautics and Space Administration, as part of its continuing effort to reduce paperwork and respondent burden, invites the general public and other Federal agencies to take this opportunity to comment on proposed and/or continuing information collections, as required by the Paperwork Reduction Act of 1995 (Public Law 104-13, 44 U.S.C. 3506(c)(2)(A)). The reports will be utilized by NASA Goddard Space Flight Center to support services dependent upon accurate locator-type information.

DATES: All comments should be submitted on or before July 30, 2000.

ADDRESSES: All comments should be addressed to Ms. Lois Ryno, Goddard Space Flight Center, National Aeronautics and Space Administration, Greenbelt Road, Greenbelt, MD 20771-001.

FOR FURTHER INFORMATION CONTACT: Ms. Carmela Simonson, NASA Reports Officer, (202) 358-1223.

Title: Locator and Information Services Tracking System (LISTS).

OMB Number: 2700-0064.

Type of review: Extension.

Need and Uses: The LIST System is used primarily to support services on the Center dependent upon accurate locator-type information.

Affected Public: Individuals or households.

Number of Respondents: 8,456.

Responses Per Respondent: 1.

Annual Responses: 8,456.

Hours Per Request: .083.

Annual Burden Hours: 702.

Frequency of Report: As required.

David B. Nelson,
Deputy Chief Information Officer, Office of the Administrator.

[FR Doc. 00-13357 Filed 5-26-00; 8:45 am]

BILLING CODE 7510-01-P